SOCIAL SECURITY ADMINISTRATION

Privacy Act of 1974 as Amended; Computer Matching Program (SSA/Department of Veterans Affairs, Compensation and Pension Service) Match 1008

AGENCY: Social Security Administration (SSA).

ACTION: Notice of computer matching program.

SUMMARY: In accordance with the provisions of the Privacy Act, as amended, this notice announces a computer matching program that SSA plans to conduct.

DATES: SSA will file a report of the subject matching program with the Committee on Governmental Affairs of the Senate, the Committee on Government Operations of the House of Representatives and the Office of Information and Regulatory Affairs, Office of Management and Budget (OMB). The matching program will be effective as indicated below.

ADDRESSES: Interested parties may comment on this notice by either telefax to (410) 966-5138, or writing to the Acting Associate Commissioner for Program Support, 2-Q-16 Operations Building 6401 Security Boulevard, Baltimore, MD 21235.

All comments received will be available for public inspection at this address.

FOR FURTHER INFORMATION CONTACT: The Associate Commissioner for Program Support as shown above.

SUPPLEMENTARY INFORMATION:

A. General

The Computer Matching and Privacy Protection Act of 1988 (Pub. L. 100-503), amended the Privacy Act (5 U.S.C. 552a) by describing the manner in which computer matching involving records of Federal agencies could be performed and adding certain protections for individuals applying for and receiving Federal benefits. Section 7201 of the Omnibus Budget Reconciliation Act of 1990 (Pub. L. 101-508) further amended the Privacy Act regarding protections for such individuals. The Privacy Act, as amended, regulates the use of computer matching by Federal agencies when records in a system of records are matched with other Federal, State or local government records. It requires Federal agencies involved in computer matching programs to:

(1) Negotiate written agreements with the other agency or agencies participating in the matching programs;

(2) Obtain the approval of the match agreements by the Data Integrity Boards of the participating Federal Agencies.

(3) Furnish detailed reports about matching programs to Congress and OMB;

(4) Notify applicants and beneficiaries that their records are subject to matching; and

(5) Verify match findings before reducing, suspending, terminating or denying an individual's benefits or payments.

B. SSA Computer Matches Subject to the Privacy Act

We have taken action to ensure that all of SSA's computers matching programs comply with the requirements of the Privacy Act, as amended.

Dated: February 25, 2002.
Frederick G. Strekewald,
Assistant Deputy Commissioner for Disability, and Income Security Programs.

Notice of Computer Matching Program, Department of Veteran Affairs (VA) With Social Security Administration (SSA).

A. Participating Agencies

SSA and VA.

B. Purpose of the Matching Program

To identify certain Supplemental Security Income (SSI) and Special Veterans Benefit (SVB) recipients under title XVI and title VIII of the Social Security Act (“Act”) respectively, who receive VA-administered benefits, and to update their SSI/SVB records to reflect the presence of such payments. To determine under section 1144 of the Act, potential eligibility for Medicare Savings Programs (MSP) and enable SSA, in turn, to identify these individuals to the States.

C. Authority for Conducting the Matching Programs

The legal authority for SSA to conduct this matching activity is contained in sections 1631(e)(1)(B) and 1631(f) of the Act, 42 U.S.C. 1383(e)(1)(B) and 1383(f) (SSI), section 806(b) of the Act, 42 U.S.C. 1006(b)(SVB) and section 1144 of the Act, 42 U.S.C 1320b-14.

D. Categories of Records and Individuals Covered by the Matching Program

The VA will provide SSA with electronic files containing compensation and pension data from its system of records entitled Compensation and Pension, Education and Rehabilitation Records—VA (58VA21/22). SSA will then match VA's data with SSI/SVB payment information maintained in the SSR SSA/OSR 60-0103.

E. Inclusive Dates of the Match

The matching program shall become effective 40 days after notice of this matching program is sent to Congress and OMB or 30 days after publication of this notice in the Federal Register, whichever date is later. The matching program will continue for 18 months from the effective date and may be extended for an additional 12 months thereafter, if certain conditions are met.

[FR Doc. 02-5133 Filed 3-4-02; 8:45 am]

BILLING CODE 4191-02-P